DEPARTMENT OF THE INTERIOR

National Indian Gaming Commission

Notice of Approved Class III Tribal Gaming Ordinance

AGENCY: National Indian Gaming Commission. Interior Department.

ACTION: Notice.

SUMMARY: The purpose of this notice is to inform the public of the approval of Santa Rosa Band of Cahuilla Indians (Tribe) Class III gaming ordinance by the Chairman of the National Indian Gaming Commission.

DATES: This notice is applicable April 21, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On April 6, 2023, the Chairman of the National Indian Gaming Commission approved the Santa Rosa Band of Cahuilla Indians (Tribe) Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: April 17, 2023.
Rea Cisneros,
Acting General Counsel.

April 6, 2023

VIA EMAIL

Chairwoman Lovina Redner

Santa Rosa Band of Cahuilla Indians

65200 State Highway 74

Mountain Center, CA 92561

Re: Santa Rosa Band of Cahuilla Indians' Gaming Ordinance

Dear Chairwoman Redner,

This letter responds to the February 16, 2023 submission on behalf of the Santa Rosa Band of Cahuilla Indians (Tribe) informing the National Indian Gaming Commission (NIGC) that the Tribe adopted a tribal gaming ordinance. Upon review, the ordinance is substantially similar to the NIGC Revised Model Ordinance promulgated in NIGC Bulletin 2018-1 and provides the Tribe with regulation of anticipated gaming activities. Thank you for bringing this ordinance to our attention. The ordinance, as noted above, is approved as it is consistent with the requirements of the Indian Gaming Regulatory Act and NIGC's regulations. If you have any questions or require anything further, please contact Logan Takao Cooper at (503) 318-7524 or Logan.Takao-Cooper@nigc.gov.

Sincerely,

E. Sequoyah Simermeyer, Chairman

cc: Vanessa Minott, Tribal Administrator

Thomas Weathers, Tribal Attorney

[FR Doc. 2023-08509 Filed 4-20-23; 8:45 am]

BILLING CODE 7565-01-P